DEPARTMENT OF COMMERCE

National Oceanic and Atmospheric Administration

[I.D. 053100C]

Marine Mammals; File No. 358-1564-00

AGENCY: National Marine Fisheries Service (NMFS), National Oceanic and Atmospheric Administration (NOAA), Commerce.

ACTION: Issuance of permit.

SUMMARY: Notice is hereby given that the Alaska Department of Fish and Game, 1255 W. 8th Street, P.O. Box 25526, Juneau, Alaska 99802-5526 [P.I. Kenneth W. Pitcher] has been issued a permit to take Steller sea lions (Eumetopias jubatus) for purposes of scientific research.

ADDRESSES: The permit and related documents are available for review upon written request or by appointment in the following office(s):

Permits and Documentation Division, Office of Protected Resources, NMFS, 1315 East-West Highway, Room 13705, Silver Spring, MD 20910 (301/713-2289); and

Alaska Region, NMFS, P.O. 21668, Juneau, AK 99802-1668 (907/586-7248).

FOR FURTHER INFORMATION CONTACT: Simona Roberts or Ruth Johnson, 301/713-2289.

SUPPLEMENTARY INFORMATION: On February 11, 2000, notice was published in the Federal Register (65 FR 6997) that a request for a scientific research permit to take Steller sea lions had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Issuance of this permit, as required by the ESA, was based on a finding that such permit (1) was applied for in good faith, (2) will not operate to the disadvantage of the endangered species which is the subject of this permit, and (3) is consistent with the purposes and policies set forth in section 2 of the ESA.

Dated: June 22, 2000.
Ann Terbush,
Chief, Permits and Documentation Division, Office of Protected Resources, National Marine Fisheries Service.

[FR Doc. 00-16351 Filed 6-27-00; 8:45 am]

BILLING CODE 3510-22-F